FEDERAL COMMUNICATIONS COMMISSION

[Report No. AUC-03-49-B (Auction No. 49); DA 03-100]

Revised Inventory and Auction Start Date for Auction of Lower 700 MHz Band Licenses; Comment Sought on Reserve Prices or Minimum Opening Bids and Other Auction Procedures

AGENCY: Federal Communications Commission.

ACTION: Notice.

SUMMARY: This document revises the Auction No. 49 inventory to include five additional licenses, and seeks comment on procedural issues related to the auction of these additional licenses. This document also revises the starting date for Auction No. 49 to provide additional time for bidder preparation and planning.

DATES: Comments are due on or before February 12, 2003, and reply comments are due on or before February 19, 2003. Auction No. 49 is scheduled to begin May 28, 2003.

ADDRESSES: All comments and reply comments must be filed electronically to the following address: auction49@fcc.gov.

FOR FURTHER INFORMATION CONTACT: For legal questions: Howard Davenport at (202) 418-0660. For general auctions questions: Lyle Ishida at (202) 418-0660 or Linda Sanderson at (717) 338-2888. For service rule questions: Amal Abdallah, Evan Baranoff, Joanne Epps or Melvin Spann at (202) 418-0620.

SUPPLEMENTARY INFORMATION: This is a summary of the Auction No. 49 Revised License Inventory Public Notice released on January 29, 2003. The complete text of the Auction No. 49 Revised License Inventory Public Notice, including attachments, is available for public inspection and copying during regular business hours at the FCC Reference Information Center, Portals II, 445 12th Street, SW., Room CY-B402, Washington, DC 20554. The Auction No. 49 Revised License Inventory Public Notice may also be purchased from the Commission's duplicating contactor, Qualex International, Portals II, 445 12th Street, SW., Room CY-B402, Washington, DC 20554, telephone (202) 863-2893, facsimile (202) 863-2898, or via email to qualexint@aol.com.

I. Background

1. In the Auction No. 49 Comment Public Notice, 67 FR 72946 (December 09, 2002), the Wireless Telecommunications Bureau (“Bureau”) announced the auction of 251 licenses in the Lower 700 MHz band C block (710-716/740-746 MHz) scheduled to commence on April 16, 2003 (“Auction No. 49”). The Bureau also sought comment on procedures for the auction of those licenses. In response to the Auction No. 49 Comment Pubic Notice, several commenters requested that the Bureau include the Lower 700 MHz band D block (716-722 MHz) licenses in Auction No. 49. By the Auction No. 49 Revised License Inventory Public Notice, the Bureau revises the auction inventory to include the five licenses in the Lower 700 MHz band D block (716-722 MHz band) that remained unsold in Auction No. 44. These five additional licenses, as well as the other licenses to be offered in Auction No. 49, are identified in Attachment A of the Auction No. 49 Revised License Inventory Public Notice. The Auction No. 49 Revised License Inventory Public Notice seeks comment on procedural issues related to the auction of the D block licenses. Also by the Auction No. 49 Revised License Inventory Public Notice, the Bureau revises the starting date for Auction No. 49 to May 28, 2003, in order to provide additional time for bidder preparation and planning.

2. The Bureau has before it a Request for Waiver of Auction Procedures and Section 1.2109 of the Commission's Rules filed on October 2, 2002, by Banks Broadcasting, Inc. (“Banks”) and a Petition to Promptly Resolve Waiver Request or Remove Four Licenses from Auction No. 49 Pending Resolution of Outstanding Waiver Request, filed by Banks on December 17, 2002. In these filings, Banks seeks to have the Bureau offer it four of the licenses listed in Attachment A of the Auction No. 49 Revised License Inventory Public Notice, based on high bids Banks formerly held on these licenses in Auction No. 44. The Bureau will respond to Banks's request in a separate Order.

The following table contains the block/frequency cross-reference for the 710-716/740-746 MHz and 716-722 MHz Bands:

Block | Frequencies | Bandwidth (MHz) | Pairing | Geographic area type | Number of licenses
C | 710-716, 740-746 | 12 | 2 × 6 | MSA/RSA | 251
D | 716-722 | 6 | unpaired | 700 MHz EAG | 5

Note: For Auction No. 49, licenses are not available in every market for the frequency blocks listed in the above table. See Attachment A of the Auction No. 49 Revised License Inventory Public Notice to determine which licenses will be offered.

II. Reserve Price or Minimum Opening Bid

3. For the five additional D block licenses offered in Auction No. 49, the Bureau proposes to use the same formula for calculating minimum opening bids as proposed in the Auction No. 49 Comment Public Notice. Specifically, for Auction No. 49, the Bureau has proposed the following license-by-license formula for calculating minimum opening bids:

$0.01 * MHz * License Area Population with a minimum of $1,000 per license.

A complete list of all licenses to be offered in Auction No. 49 and the proposed minimum opening bid for each is set forth in Attachment A of the Auction No. 49 Revised License Inventory Public Notice. Comment is sought on this proposal. Alternatively, comment is sought on whether, consistent with the Balanced Budget Act of 1997, the public interest would be served by having no minimum opening bid or reserve price.

III. Upfront Payments and Initial Maximum Eligibility for Each Bidder

4. For the five additional D block licenses offered in Auction No. 49, the Bureau proposes to use the same formula for determining upfront payments as previously proposed in the Auction No. 49 Comment Public Notice. Specifically, for Auction No. 49, the Commission has proposed the following license-by-license formula for calculating upfront payments:

$0.005 * MHz * License Area Population with a minimum of $1,000 per license.

The specific upfront payment and bidding units for each license are set forth in Attachment A of the Auction No. 49 Revised License Inventory Public Notice. The Bureau seeks comment on this proposal.

5. For the additional licenses offered in Auction No. 49, the Bureau further proposes that the amount of the upfront payment submitted by a bidder will determine the number of bidding units on which a bidder may place bids. This limit is a bidder's “maximum initial eligibility.” Each license is assigned a specific number of bidding units equal to the upfront payment listed in Attachment A of the Auction No. 49 Revised License Inventory Public Notice, on a bidding unit per dollar basis. This number does not change as prices rise during the auction. Rather, a bidder may place bids on any combination of licenses as long as the total number of bidding units associated with those licenses does not exceed its maximum initial eligibility and the license was selected on the FCC Form 175. Eligibility cannot be increased during the auction. Thus, in calculating its upfront payment amount, an applicant must determine the maximum number of bidding units it may wish to bid on (or hold high bids on) in any single round, and submit an upfront payment covering that number of bidding units. The Bureau seeks comment on this proposal.

IV. Other Auction Procedural Issues

6. In the Auction No. 49 Comment Public Notice, the Bureau also set forth and sought comment on the following proposals relating to auction structure and bidding procedures: (i) Simultaneous multiple round auction design; (ii) activity rules; (iii) activity rule waivers and reducing eligibility; (iv) information relating to auction delay, suspension or cancellation; (v) round structure; (vi) minimum acceptable bids and bid increments; (vii) high bids and tied bids; (viii) information regarding bid withdrawal and bid removal; and (ix) auction stopping rule. For the additional licenses in Auction No. 49, the Bureau proposes to use the same auction structure and bidding procedures proposed in the Auction No. 49 Comment Public Notice. The Bureau seeks comment on these proposals as they relate to the five additional licenses in the Lower 700 MHz band D block included in Attachment A of the Auction No. 49 Revised License Inventory Public Notice.

V. Conclusion

7. Comments are due on or before February 12, 2003, and reply comments are due on or before February 19, 2003. The Bureau requires that all comments and reply comments be filed electronically. Comments and reply comments must be sent by electronic mail to the following address: auction49@fcc.gov. The electronic mail containing the comments or reply comments must include a subject or caption referring to Auction No. 49 Comments. The Bureau requests that parties format any attachments to electronic mail as Adobe® Acrobat® (pdf) or Microsoft® Word documents. Copies of comments and reply comments will be available for public inspection during regular business hours in the FCC Public Reference Room, Room CY-A257, 445 12th Street, SW., Washington, DC 20554.

In addition, the Bureau requests that commenters fax a courtesy copy of their comments and reply comments to the attention of Kathryn Garland at (717) 338-2850.

8. This proceeding has been designated as a “permit-but-disclose” proceeding in accordance with the Commission's ex parte rules. Persons making oral ex parte presentations are reminded that memoranda summarizing the presentations must contain summaries of the substance of the presentations and not merely a listing of the subjects discussed. More than a one or two sentence description of the views and arguments presented is generally required. Other rules pertaining to oral and written ex parte presentations in permit-but-disclose proceedings are set forth in § 1.1206(b) of the Commission's rules.

Federal Communications Commission.
Margaret Wiener,
Chief, Auctions and Industry Analysis Division, WTB.

[FR Doc. 03-3071 Filed 2-6-03; 8:45 am]

BILLING CODE 6712-01-P